DEPARTMENT OF HEALTH AND HUMAN SERVICES

Centers for Disease Control and Prevention

[30Day-06-0006]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

Statement in Support of Application for Waiver of Inadmissibility (0920-0006)—Extension—National Center for Infectious Diseases (NCID), Centers for Disease Control and Prevention (CDC).

Background and Brief Description

Section 212(a)(1) of the Immigration and Nationality Act states that aliens with specific health-related conditions are ineligible for admission into the United States. The Attorney General may waive application of this inadmissability on health-related grounds if an application for waiver is filed and approved by the consular office considering the application for visa. NCID Division of Global Migration and Quarantine uses this application primarily to collect information to establish and maintain records of waiver applicants in order to notify the U.S. Citizenship and Immigration Services (USCIS) when terms, conditions and controls imposed by waiver are not met. NCID is requesting the extension of this data collection for 3 years. Each respondent pays $80/year to mail their information to CDC. All respondents are physicians/health-care providers. The total estimated annualized burden hours are 167.

Estimated Annualized Burden Hours
Forms | Number of respondents | Response/respondents | Avg. time/response (in hrs.)
CDC 4.422-1 | 200 | 1 | 10/60
CDC 4.422-1A | 200 | 1 | 20/60
CDC 4.422-1B | 200 | 1 | 20/60

Dated: December 28, 2005.
Betsey S. Dunaway,
Acting Reports Clearance Officer, Centers for Disease Control and Prevention.

[FR Doc. E5-8238 Filed 1-3-06; 8:45 am]

BILLING CODE 4163-18-P